DEPARTMENT OF COMMERCE

[I.D. 120203A]

Submission for OMB Review; Comment Request

The Department of Commerce has submitted to the Office of Management and Budget (OMB) for clearance the following proposal for collection of information under the emergency provisions of the Paperwork Reduction Act (44 U.S.C. Chapter 35).

Agency: National Oceanic and Atmospheric Administration (NOAA).

Title: Scup Gear Restricted Area (GRA) Access Program Authorization.

Form Number(s): None.

OMB Approval Number: 0648-0469.

Type of Request: Emergency submission.

Burden Hours: 887.

Number of Respondents: 72.

Average Hours Per Response: 2 minutes for a telephone call to request a GRA authorization; 2 minutes for a notification call at least 5 days prior to a trip; 2 minutes for a transmission for declaring into a GRA when the vessel leaves port; 15 seconds per automated position report from a vessel monitoring system; and 10 minutes for a daily manual vessel monitoring system report of discards (including null reports).

Needs and Uses: This collection of information involves a number of requirements needed to manage the Scup GRA Access Program. The information will be used for enforcement of regulations and for future analysis of the fishery.

Affected Public: Business or other for-profit organizations, and individuals or households.

Frequency: On occasion, daily, hourly.

Respondent's Obligation: Required to obtain or retain a benefit.

OMB Desk Officer: David Rostker, (202) 395-3897.

SUPPLEMENTARY INFORMATION: Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within December 19, 2003 to David Rostker, OMB Desk Officer, FAX number (202) 395-7285, or David_Rostker@omb.eop.gov.

Dated: November 26, 2003.
Gwellnar Banks,
Management Analyst, Office of the Chief Information Officer.

[FR Doc. 03-30285 Filed 12-4-03; 8:45 am]

BILLING CODE 3510-22-S